DEPARTMENT OF DEFENSE

Department of the Army

[Docket ID: USA-2012-0012]

Privacy Act of 1974; System of Records; Correction

AGENCY: Department of the Army, DoD.

ACTION: Notice to delete a System of Records; correction.

SUMMARY: On Wednesday, October 3, 2012 (77 FR 60412), the Department of Defense/Department of the Army (DOA) published a notice announcing its intent to delete a System of Records titled A0351 AMC, Student/Faculty Records: AMC Schools Systems, as the records had been transferred to the Training and Doctrine Command (TRADOC). After publication of the notice in the Federal Register, the DOA discovered that the records had not yet been transferred to TRADOC. Therefore, the DOA systems of records notice cannot be deleted at this time.

DATES: This correction is effective October 10, 2012.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

Dated: October 4, 2012.
Aaron Siegel,
Alternate OSD Federal Register Liaison Officer, Department of Defense.

[FR Doc. 2012-24885 Filed 10-9-12; 8:45 am]

BILLING CODE 5001-06-P